DEPARTMENT OF JUSTICE

Drug Enforcement Administration

Manufacturer of Controlled Substances; Notice of Application

Pursuant to 21 CFR 1301.33(a), Title 21 of the Code of Federal Regulations (CFR), this is notice that on September 28, 2004, Green Acres Farms, Inc., Rebecca Marie Yale, 5532 Frances Avenue, Tacoma, Washington 98422, made application to the Drug Enforcement Administration (DEA) for registration as a bulk manufacturer of the basic class of controlled substances listed in Schedule I:

Drug | Schedule
Marijuana (7360) | I
Tetrahydrocannabinols (7370) | I

The applicant plans to manufacture (cultivate) Marijuana and Tetrahydrocannabinols in bulk for distribution. As documented in the applicant's response to the bulk manufacturer questionnaire submitted to the Drug Enforcement Administration (DEA), Green Acres Farms, Inc. stated its plans “to support the medical marijuana market. It is our intention to manufacture, package and sell to the various authorized outlets within each state that has passed a law by its citizens to allow the medicinal use of marijuana.”

Any other such applicant and any person who is presently registered with DEA to manufacture such substances may file comments or objections to the issuance of the proposed registration pursuant to 21 CFR 1301.33(a).

Any such written comments or objections being sent via regular mail may be addressed, in quintuplicate, to the Deputy Assistant Administrator, Office of Diversion Control, Drug Enforcement Administration, Washington, DC 20537, Attention: DEA Federal Register Representative, Liaison and Policy Section (ODL); or any being sent via express mail should be sent to DEA Headquarters, Attention: DEA Federal Register Representative/ODL, 2401 Jefferson-Davis Highway, Alexandria, Virginia 22301; and must be filed no later than (60 days from publication).

Dated: February 17, 2005.
William J. Walker,
Deputy Assistant Administrator, Office of Diversion Control, Drug Enforcement Administration.

[FR Doc. 05-3799 Filed 2-25-05; 8:45 am]

BILLING CODE 4410-09-P